DEPARTMENT OF LABOR

Employment and Training Administration

20 CFR Part 641

[Docket No. ETA-2022-0002]

RIN 1205-AC04

Senior Community Service Employment Program Conforming Changes to the Supporting Older Americans Act of 2020—Updated Guidance on Priority of Service, Durational Limits, and State Plan Submissions

AGENCY: Employment and Training Administration, Labor Department.

ACTION: Direct final rule; confirmation of effective date.

SUMMARY: On February 14, 2022, the Department of Labor (Department) concurrently published both a direct final rule (DFR) and proposed rule putting forth guidance on priority service, durational limits, and State Plan submissions regarding a State's Senior Community Service Employment Program, or SCSEP. Because the Department did not receive any significant adverse comments within the scope of the rulemaking, the Department is implementing the DFR as published.

DATES: As of May 6, 2022, the Department is confirming the effective date of the rule published February 14, 2022 at 87 FR 8186 as April 15, 2022.

FOR FURTHER INFORMATION CONTACT: Steven Rietzke, Chief, Division of National Programs, Tools and Technical Assistance, Office of Workforce Investment, at 202-693-3980 (this is not a toll-free number).

SUPPLEMENTARY INFORMATION: The DFR published at 87 FR 8186 on February 14, 2022, became effective on April 15, 2022. In the DFR, the Department stated that the DFR would become effective April 15, 2022 without further action, unless significant adverse comments were submitted by March 16, 2022 (the end of the public comment period), and the Department would publish a timely withdrawal of the proposed rule. In the same issue of the Federal Register in which this notice is published, the Department is publishing a withdrawal of the proposed rule, which was also published on February 14, 2022.

The Department received seven comments on this rulemaking. Several of these comments were supportive of the provisions this rulemaking proposed to implement. While other comments could be characterized as negative or adverse, none of those comments were significant or within the scope of this rulemaking. One commenter was opposed to the time limit; however, that time limit is set forth in the Supporting Older Americans Act of 2020, and is, therefore, a statutory requirement beyond the purview of the rulemaking. The remaining comments were outside the scope of the rulemaking. The comments are publicly available as part of the rulemaking docket at https://www.regulations.gov/docket/ETA-2022-0002/comments.

The Department has determined that none of the adverse comments are significant and within the scope of the rulemaking. Therefore, the DFR published at 87 FR 8186 on February 14, 2022, became effective on April 15, 2022.

Angela Hanks,
Acting Assistant Secretary for Employment and Training, Labor.

[FR Doc. 2022-09491 Filed 5-5-22; 8:45 am]

BILLING CODE 4510-FN-P